DEPARTMENT OF ENERGY

Federal Energy Regulatory Commission

[Docket No.GT02-23-000]

Questar Southern Trails Pipeline Company; Notice of Tariff Filing

May 15, 2002.

Take notice that on May 7, 2002, Questar Southern Trails Pipeline Company (Southern Trails) tendered for filing as part of its FERC Gas Original Volume No. 1, First Revised Sheet No. 6 and Original Sheet No. 7, to be effective June 1, 2002.

Southern Trails states that the filing is being filed in compliance with the Commission's Policy Statement in Docket Nos. RM95-6-000 and RM96-7-000 (Policy Statement) issued January 31, 1996.

Southern Trails states that the tendered tariff sheets identify Southern Trails' Statement of Negotiated Rates to reflect negotiated-rate contracts with Duke Energy Trading and Marketing, L.L.C. and BP Energy Company.

Southern Trails stated that a copy of this filing has been served upon all parties to this proceeding, Southern Trails' customers, and the Public Service Commissions of Utah, New Mexico, Arizona and California.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-12742 Filed 5-21-02; 8:45 am]

BILLING CODE 6717-01-P